DEPARTMENT OF ENERGY

Federal Energy Regulatory Commission

[Docket No. EL18-194-000]

Nebraska Public Power District v. Tri-State Generation Transmission Association, Inc. Southwest Power Pool, Inc.; Notice of Complaint

Take notice that on August 21, 2018, pursuant to sections 206 and 306 of the Federal Power Act, 16 U.S.C. 824e and 825e and Rule 206 of the Federal Energy Regulatory Commission's (Commission) Rules of Practice and Procedure, 18 CFR 385.206, Nebraska Public Power District (Complainant) filed a formal complaint against Tri-State Generation Transmission Association, Inc. (Tri-State) and Southwest Power Pool, Inc. (SPP) (collectively, Respondents) alleging that the inclusion of certain cost in Tri-State's annual Transmission Revenue Requirement cause rates for transmission service under SPP's, Inc. Open Access Transmission Tariff to be unjust and unreasonable, as more fully explained in the complaint.

Complainant certifies that copies of the complaint were served on the contacts for Respondents on the Commission's list of Corporate Officials.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainant.

The Commission encourages electronic submission of protests and interventions in lieu of paper using the “eFiling” link at http://www.ferc.gov. Persons unable to file electronically should submit an original and 5 copies of the protest or intervention to the Federal Energy Regulatory Commission, 888 First Street NE, Washington, DC 20426.

This filing is accessible on-line at http://www.ferc.gov, using the “eLibrary” link and is available for review in the Commission's Public Reference Room in Washington, DC. There is an “eSubscription” link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on September 10, 2018.

Dated: August 22, 2018.
Nathaniel J. Davis, Sr.,
Deputy Secretary.

[FR Doc. 2018-18597 Filed 8-27-18; 8:45 am]

BILLING CODE 6717-01-P